FEDERAL ELECTION COMMISSION

[Notice 2024-10]

Filing Dates for the Colorado Special Election in the 4th Congressional District

AGENCY: Federal Election Commission.

ACTION: Notice of filing dates for special election.

SUMMARY: Colorado has scheduled a special election on June 25, 2024, to fill the U.S. House of Representatives seat in the 4th Congressional District vacated by Representative Ken Buck.

Committees required to file reports in connection with the Special General Election on June 25, 2024, shall file a 12-day Pre-General and a 30-Day Post-General Report.

ADDRESSES: 1050 First Street NE, Washington, DC 20463.

FOR FURTHER INFORMATION CONTACT: Ms. Elizabeth S. Kurland, Information Division, (202) 694-1100 or (800) 424-9530, info@fec.gov.

SUPPLEMENTARY INFORMATION:

Principal Campaign Committees

All principal campaign committees of candidates who participate in the Colorado Special General Election shall file a 12-day Pre-General Report on June 13, 2024, and a 30-day Post-General Report on July 25, 2024. (See chart below for the closing date for each report.)

Note that these reports are in addition to the campaign committee's regular quarterly filings. (See chart below for the closing date for each report).

Unauthorized Committees (PACs and Party Committees)

Political committees not filing monthly are subject to special election reporting if they make previously undisclosed contributions or expenditures in connection with the Colorado Special General Election by the close of books for the applicable report(s). (See chart below for the closing date for each report.)

Committees filing monthly that make contributions or expenditures in connection with the Colorado Special General Election will continue to file according to the monthly reporting schedule.

Additional disclosure information for the Colorado special election may be found on the FEC website at https://www.fec.gov/help-candidates-and-committees/dates-and-deadlines/.

Disclosure of Lobbyist Bundling Activity

Principal campaign committees, party committees and leadership PACs that are otherwise required to file reports in connection with the special election must simultaneously file FEC Form 3L if they receive two or more bundled contributions from lobbyists/registrants or lobbyist/registrant PACs that aggregate in excess of $22,700 during the special election reporting periods. (See chart below for closing date of each period.) 11 CFR 104.22(a)(5)(v), (b), 110.17(e)(2), (f).

¹ The reporting period always begins the day after the closing date of the last report filed. If the committee is new and has not previously filed a report, the first report must cover all activity that occurred before the committee registered as a political committee up through the close of books for the first report due.

Calendar of Reporting Dates for Colorado Special Election
Report | Close of books ¹ | Reg./cert. & overnight mailing deadline | Filing deadline
Political Committees Involved in the Special General (06/25/2024) Must File:
Pre-General | 06/05/2024 | 06/10/2024 | 06/13/2024
July Quarterly | —WAIVED—
Post-General | 07/15/2024 | 07/25/2024 | 07/25/2024
October Quarterly | 09/30/2024 | 10/15/2024 | 10/15/2024

Dated: March 29, 2024
On behalf of the Commission,
Sean J. Cooksey,
Chairman, Federal Election Commission.

[FR Doc. 2024-07051 Filed 4-2-24; 8:45 am]

BILLING CODE 6715-01-P